DEPARTMENT OF THE INTERIOR

Bureau of Land Management

[LLNV952000 L14400000.BJ0000 LXSSF2210000.241A; 13-08807; MO# 4500075689; TAS: 15X1109]

Filing of Plats of Survey; NV

AGENCY: Bureau of Land Management, Interior.

ACTION: Notice.

SUMMARY: The purpose of this notice is to inform the public and interested State and local government officials of the filing of Plats of Survey in Nevada.

DATES: Effective Dates: Unless otherwise stated filing is effective at 10:00 a.m. on the dates indicated below.

FOR FURTHER INFORMATION CONTACT: Michael O. Harmening, Chief, Branch of Geographic Sciences, Bureau of Land Management, Nevada State Office, 1340 Financial Blvd., Reno, NV 89502-7147, phone: 775-861-6490. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION:

1. The Plat of Survey of the following described lands was officially filed at the Bureau of Land Management (BLM) Nevada State Office, Reno, Nevada on October 14, 2014:

The plat, in 1 sheet, representing the dependent resurvey of the east boundary, a portion of the west boundary, the north boundary and a portion of the subdivisional lines, Township 26 North, Range 49 East, Mount Diablo Meridian, Nevada, under Group No. 919, was accepted October 10, 2014. This survey was executed to meet certain administrative needs of the Bureau of Land Management.

2. The Plat of Survey of the following described lands was officially filed at the BLM Nevada State Office, Reno, Nevada on December 19, 2014:

The plat, in 2 sheets, representing the dependent resurvey of a portion of the east boundary and a portion of the subdivisional lines, and a metes-and-bounds survey in section 13, Township 15 North, Range 64 East, of the Mount Diablo Meridian, Nevada, under Group No. 927, was accepted December 17, 2014. This survey was executed to meet certain administrative needs of the Bureau of Land Management.

3. The Plat of Survey of the following described lands was officially filed at the BLM Nevada State Office, Reno, Nevada on December 19, 2014:

The plat, in 4 sheets, representing the dependent resurvey of the Third Standard Parallel North through a portion of Range 65 East, a portion of the west boundary and a portion of the subdivisional lines, and the corrective dependent resurvey of a portion of the subdivisional lines, the subdivision of section 7, and metes-and-bounds surveys in sections 3, 7 and 18, Township 15 North, Range 65 East, of the Mount Diablo Meridian, Nevada, under Group No. 927, was accepted December 17, 2014. This survey was executed to meet certain administrative needs of the Bureau of Land Management.

4. The Plat of Survey of the following described lands was officially filed at the BLM Nevada State Office, Reno, Nevada on November 7, 2014:

The plat, in 6 sheets, representing the dependent resurvey of a portion of the south and west boundaries, a portion of the subdivisional lines and a portion of the subdivision of section 18, and a metes-and-bounds survey of a line 30 feet easterly and parallel with the apparent centerline of a portion of Cave Valley road, through sections 18, 19, 30 and 31, and a metes-and-bounds survey of a line 30 feet southerly and parallel with the apparent centerline of an unimproved dirt road and a portion of the westerly right-of-way line of Highway Nos. 6, 50 and 93, through a portion of section 34, Township 15 North, Range 64 East, of the Mount Diablo Meridian, Nevada, under Group No. 928, was accepted October 31, 2014. This survey was executed to meet certain administrative needs of the Bureau of Land Management to affect the transfer of Federal Lands to the State of Nevada, as directed by Public Law 109-432.

5. The Plat of Survey of the following described lands was officially filed at the BLM Nevada State Office, Reno, Nevada on November 7, 2014:

The plat, in 1 sheet, representing the dependent resurvey of the First Standard Parallel North through a portion of Range 40 East, as portion of the subdivisional lines and a portion of Mineral Survey No. 4414, Township 6 North, Range 40 East, of the Mount Diablo Meridian, Nevada, under Group No. 932, was accepted November 5, 2014. This survey was executed to meet certain administrative needs of the Bureau of Land Management.

The surveys listed above are now the basic record for describing the lands for all authorized purposes. These records have been placed in the open files in the BLM Nevada State Office and are available to the public as a matter of information. Copies of the surveys and related field notes may be furnished to the public upon payment of the appropriate fees.

Dated: January 6, 2015.
Michael O. Harmening,
Chief Cadastral Surveyor, Nevada.

[FR Doc. 2015-00426 Filed 1-13-15; 8:45 am]

BILLING CODE 4310-HC-P